DEPARTMENT OF THE INTERIOR

Fish and Wildlife Service

50 CFR Part 17

RIN 1018-AH91

Endangered and Threatened Wildlife and Plants; Extension of the Public Comment Period on Proposed Designation of Critical Habitat for the Rio Grande Silvery Minnow

AGENCY: Fish and Wildlife Service, Interior.

ACTION: Proposed rule; reopening and extension of the public comment period.

SUMMARY: We, the U.S. Fish and Wildlife Service (Service), provide notice of an extension of the public comment period for the proposal to designate critical habitat for the Rio Grande silvery minnow (Hybognathus amarus) (silvery minnow), a species federally listed as endangered under the authority of the Endangered Species Act of 1973, as amended (Act). Comments are also solicited on the associated draft economic analysis and draft environmental impact statement (draft EIS). Comments previously submitted need not be resubmitted as they have already been incorporated into the public record and will be fully considered in the final rule. The proposed rule designating critical habitat for the silvery minnow and the draft EIS were issued pursuant to a November 21, 2000, court order by the United States District Court for the District of New Mexico, in Middle Rio Grande Conservancy District v. Babbitt, Civ. Nos. 99-870, 99-872, 99-1445M/RLP (Consolidated), that set aside the July 9, 1999, critical habitat designation for the silvery minnow.

DATES: The comment period will be extended until October 2, 2002. Comments must be received by the closing date.

ADDRESSES: You may submit written comments and materials concerning the proposal, the draft economic analysis, or the draft EIS to Field Supervisor, U.S. Fish and Wildlife Service, New Mexico Ecological Services Field Office, 2105 Osuna NE, Albuquerque, NM, 87113. Written comments may also be sent by facsimile to (505) 346-2542 or R2FWE_AL@fws.gov. All comments, including names and addresses, will become part of the administrative record and may be released. You may also hand-deliver written comments to our New Mexico Ecological Services Field Office, at the above address. Comments and materials received, as well as supporting documentation used in the preparation of this proposed rule, will be available for public inspection, by appointment, during normal business hours from 8 a.m. to 4:30 p.m., at the above address. You may obtain copies of the proposed rule from the above address or by calling 505/346-2542, or from our website at http://ifw2es.fws.gov/Library/.

FOR FURTHER INFORMATION CONTACT: Joy Nicholopoulos, Field Supervisor, New Mexico Ecological Services Field Office (see ADDRESSES above); phone: 505-346-2525 or visit our website at http://ifw2es.fws.gov/.

SUPPLEMENTARY INFORMATION:

Background

We published a proposed rule to designate critical habitat for the silvery minnow in the Federal Register on June 6, 2002 (67 FR 39206). The silvery minnow presently occurs only in the Rio Grande from Cochiti Dam, Sandoval County, downstream to the headwaters of Elephant Butte Reservoir, Sierra County, New Mexico. We proposed to designate critical habitat within this last remaining portion of the occupied range in the middle Rio Grande (Cochiti Dam to Elephant Butte Dam) in New Mexico. The proposed critical habitat designation defines the lateral extent (width) as those areas bounded by existing levees or, in areas without levees, 91.4 meters (300 feet) of riparian zone adjacent to each side of the middle Rio Grande.

We have not proposed critical habitat designation for two areas important for the conservation of the silvery minnow (i.e., the river reach of the middle Pecos and lower Rio Grande in Big Bend National Park and downstream to the Terrell/Val Verde County line). We proposed a conservation strategy of developing one or more experimental populations under section 10(j) of the Act, because we believe this strategy outweighs any benefits that could be provided to the silvery minnow by including these areas within a designation of critical habitat.

If the proposed rule is finalized, section 7(a)(2) of the Act would require that Federal agencies ensure that actions they fund, authorize, or carry out are not likely to result in the “destruction or adverse modification” of critical habitat. Section 4 of the Act requires us to consider economic and other relevant impacts of specifying any particular area as critical habitat. We request data and comments from the public and all interested parties on all aspects of the proposal, including data on economic and other impacts of the proposed designation.

We held two public hearings to receive comments from the public. The hearings were in Socorro and Albuquerque, NM, on June 25 and 26, 2002 respectively. Public hearings are designed to gather relevant information that the public may have that we should consider in our rule-making. During the hearings, we presented information about the proposed action. We invited the public to submit information and comments either at the hearings or in writing.

Public Comments Solicited

We solicit comments or suggestions from the public, other concerned governmental agencies, tribes, the scientific community, industry, or any other interested parties concerning the proposal, the draft economic analysis, or draft EIS. Our practice is to make all comments, including names and home addresses of respondents, available for public review. Individual respondents may request that we withhold their home addresses from the rulemaking record; we will honor these requests to the extent allowed by law. If you wish us to withhold your name or address, you must state this prominently at the beginning of your comments. We will make all submissions from organizations or businesses, and from individuals identifying themselves as representatives or officials of organizations or businesses, available for public inspection in their entirety.

We are particularly interested in comments or suggestions on reasons why any particular area should or should not be designated as critical habitat. We are further soliciting information or comments concerning our conservation strategy for the silvery minnow; specific information on the amount and distribution of silvery minnow habitat; what habitat is essential to the conservation of the species and why; and land use practices and current or planned activities in the subject areas, including comments or information relating to the 300-foot lateral width. Depending on public comments, information, or data received, we will evaluate whether these areas within the silvery minnow's historical range should be designated as critical habitat, and critical habitat could be revised as appropriate.

Authors

The primary authors of this notice are the New Mexico Field Office staff (see ADDRESSES section).

Authority

The authority for this action is the Endangered Species Act of 1973 (16 U.S.C. 1531 et seq.).

Dated: September 5, 2002.
Craig Manson,
Assistant Secretary for Fish and Wildlife and Parks.

[FR Doc. 02-23249 Filed 9-11-02; 8:45 am]

BILLING CODE 4310-55-P